DEPARTMENT OF JUSTICE

Notice of Lodging of Consent Decree Pursuant to The Clean Water Act

In accordance with Department policy, 28 CFR 50.7, notice is hereby given that a proposed consent decree in United States v. City of Lebanon, Missouri, Civil Action No. 04-3125-CV-S-RED was lodged on April 12, 2004, with the United States District Court for the Western District of Missouri, Southern Division. This consent decree requires the defendants to pay a civil penalty of $72,000 and to perform injunctive relief to address permit violations at the City's wastewater treatment plant as well as to address sewage overflows from the City's sewage collection system.

The Department of Justice will receive, for a period of thirty (30) days from the date of this publication, comments relating to the proposed consent decree. Comments should be addressed to the Assistant Attorney General, Environmental and Natural Resources Division, P.O. Box 7611, U.S. Department of Justice, Washington, DC 20044-7611, and should refer to United States v. City of Lebanon, Missouri, DOJ Ref. 90-5-1-1-06400.

The proposed consent decree may be examined at the office of the United States Attorney, Charles Evans Whittaker Courthouse 400 E. 9th Street, 5th Floor, Kansas City, MO 64106 and at U.S. EPA Region 7, 901 N. 5th Street, Kansas City, Kansas 66101.

During the comment period, the consent decree may be examined on the following Department of Justice Web site, http://www.usdoj.gov/enrd/open.html. Copies of the consent decree also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $12.50 for United States v. city of Lebanon, Missouri, (25 cents per page reproduction cost) payable to the U.S. Treasury.

Robert Maher,
Assistant Section Chief, Environmental Enforcement Section.

[FR Doc. 04-14262 Filed 6-22-04; 8:45 am]

BILLING CODE 4410-15-M